DEPARTMENT OF ENERGY

Federal Energy Regulatory Commission

18 CFR Part 35

[Docket No. RM01-5-000; Order No. 714]

Electronic Tariff Filings; Correction

October 23, 2009.

AGENCY: Federal Energy Regulatory Commission, DOE.

ACTION: Correcting amendments.

SUMMARY: This document contains corrections to the final regulations, which were published in the Federal Register of Wednesday, October 3, 2008 (73 FR 57515). The regulations relate to the obligation to file rate schedules, tariffs and certain service agreements and to the withdrawals and amendments of rate schedules, and tariff or service agreement filings.

DATES: Effective on October 29, 2009.

FOR FURTHER INFORMATION CONTACT: Andre Goodson, 888 First St., NE., Washington, DC 20426, (202) 502-8560, Andre.Goodson@ferc.gov.

SUPPLEMENTARY INFORMATION:

Background

The final regulations that are the subject of these corrections concern the filing of rate schedules, tariffs, and service agreements under the Federal Power Act.

Need for Correction

In Order No. 714, the instructions for the amendatory language contained errors that resulted in the publication of incorrect language in the Federal Register for sections 35.1 and 35.17. In particular, the published regulations do not reflect that they are applicable to rate schedules, tariffs, and service agreements.

List of Subjects in 18 CFR Part 35

Electric power rates, Electric utilities, Reporting and recordkeeping requirements, Electricity, Incorporation by reference.

Accordingly, 18 CFR part 35 is corrected by making the following correcting amendments:

PART 35—FILING OF RATE SCHEDULES AND TARIFFS

1. The authority citation for part 35 continues to read as follows:

Authority: 16 U.S.C. 791A-825R, 2601-2645; 31 U.S.C. 9701; 42 U.S.C. 7101-7352.

2. In § 35.1, paragraphs (b) and (c) are revised to read as follows:

§ 35.1 Application; obligation to file rate schedules, tariffs and certain service agreements.

* * * * *

(b) A rate schedule, tariff, or service agreement applicable to a transmission or sale of electric energy, other than that which proposes to supersede, cancel or otherwise change the provisions of a rate schedule, tariff, or service agreement required to be on file with this Commission, shall be filed as an initial rate in accordance with § 35.12.

(c) A rate schedule, tariff, or service agreement applicable to a transmission or sale of electric energy which proposes to supersede, cancel or otherwise change any of the provisions of a rate schedule, tariff, or service agreement required to be on file with this Commission (such as providing for other or additional rates, charges, classifications or services, or rules, regulations, practices or contracts for a particular customer or customers) shall be filed as a change in rate in accordance with § 35.13, except cancellation or termination which shall be filed as a change in accordance with § 35.15.

* * * * *

3. In § 35.17, the heading and paragraphs (c) and (d) are revised to read as follows:

§ 35.17 Withdrawals and amendments of rate schedule, tariff or service agreement filings.

* * * * *

(c) Withdrawal of suspended rate schedules, tariffs, or service agreements, or parts thereof. Where a rate schedule, tariff, or service agreement, or part thereof has been suspended by the Commission, it may be withdrawn during the period of suspension only by special permission of the Commission granted upon application therefor and for good cause shown. If permitted to be withdrawn, any such rate schedule, tariff, or service agreement may be refiled with the Commission within a one-year period thereafter only with special permission of the Commission for good cause shown.

(d) Changes in suspended rate schedules, tariffs, or service agreements, or parts thereof. A public utility may not, within the period of suspension, file any change in a rate schedule, tariff, or service agreement, or part thereof, which has been suspended by order of the Commission except by special permission of the Commission granted upon application therefor and for good cause shown.

* * * * *

Kimberly D. Bose,
Secretary.

[FR Doc. E9-25972 Filed 10-28-09; 8:45 am]

BILLING CODE P